DEPARTMENT OF THE TREASURY

United States Mint

Notice of Stakeholder Roundtable on Coin Circulation

ACTION: Notice.

SUMMARY: The United States Mint announces an invitation stakeholder roundtable for the purpose of exchanging facts and information on the circulation of coinage. The Mint seeks information and advice on an individual basis about how coin can better circulate to reduce the commercial demand for newly minted coinage. The Mint intends to issue invitations to up to 35 participants with the objective of creating a diverse cross-section of stakeholder interests including, but not limited to, those associated with armored car carriers, coin processors, national and regional coin aggregators, financial institutions, and large retailers.

Date: December 5, 2018.

Time: 8:00 a.m. to 5:00 p.m.

Location: United States Mint, 801 9th Street NW, Second Floor Conference Room, Washington, DC 20220.

Subject: The Mint is interested in both short-term and long-term ideas to reduce the commercial demand for newly minted coinage. In service toward this objective, the Mint will conduct a facilitated discussion about coin circulation patterns and stakeholder concerns.

This is not a public meeting. Any member of the public interested in participating in this roundtable discussion should use the contact information in this notice to request an invitation and obtain additional meeting information. Please include a description of your interest in the subject matter and a brief description of the individual perspective that you would bring to the roundtable discussion. The Mint intends to issue invitations on a rolling basis, and thus encourages interested parties to submit requests in a timely manner and no later than close of business on Friday, November 9, 2018.

FOR FURTHER INFORMATION CONTACT: Patrick Cuddy, Senior Advisor, Office of Coin Studies at officeofcoinstudies@usmint.treas.gov; or call 202-354-6600.

Authority: 31 U.S.C. 5136.

Dated: October 17, 2018.
David J. Ryder,
Director, United States Mint.

[FR Doc. 2018-22966 Filed 10-19-18; 8:45 am]

BILLING CODE P